DEPARTMENT OF LABOR

Employment and Training Administration

[NAFTA-7585]

J & A Industrial Sheetmetal Company, Bend, OR; Notice of Termination of Investigation

Pursuant to Title V of the North American Free Trade Agreement Implementation Act and in accordance with Section 250(a), Subchapter D, Chapter 2, Title II of the Trade Act of 1974, as amended (19 U.S.C. 2331), an investigation was initiated on September 25, 2002, in response to a worker petition which was filed by the company on behalf of its workers at J & A Industrial Sheetmetal Company, Bend, Oregon. The subject firm was engaged primarily in fabricating sheet metal parts.

The petitioner has requested that the petition be withdrawn. Consequently further investigation in this case would serve no purpose, and the investigation has been terminated.

Signed in Washington, DC, this 3rd day of January, 2003.
Richard Church,
Certifying Officer, Division of Trade Adjustment Assistance.

[FR Doc. 03-2547 Filed 2-3-03; 8:45 am]

BILLING CODE 4510-30-P